DEPARTMENT OF TRANSPORTATION

Federal Aviation Administration

14 CFR Part 39

[Docket No. FAA-2010-0219; Directorate Identifier 2010-NE-14-AD]

RIN 2120-AA64

Airworthiness Directives; Turbomeca S.A. Turboshaft Engines

AGENCY: Federal Aviation Administration (FAA), DOT.

ACTION: Notice of proposed rulemaking (NPRM).

SUMMARY: We propose to supersede airworthiness directive (AD) 2010-11-10 that applies to all Turbomeca S.A., Astazou XIV B and XIV H turboshaft engines. AD 2010-11-10 requires inspection of certain third stage turbine wheels and removal of any damaged wheel. This AD was prompted by a report of a third stage turbine wheel crack detected during engine overhaul. This proposed AD would expand the population and frequency of repetitive inspections. We are proposing this AD to prevent uncontained failure of the third stage turbine wheel, which could result in damage to the engine and damage to the helicopter.

DATES: We must receive comments on this proposed AD by May 10, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Turbomeca S.A., 40220 Tarnos, France; phone: (33) 05 59 74 40 00; fax: (33) 05 59 74 45 15. You may view this service information at the FAA, Engine & Propeller Directorate, 1200 District Avenue, Burlington, MA. For information on the availability of this material at the FAA, call 781-238-7125.

Examining the AD Docket

You may examine the AD docket on the Internet at http://www.regulations.gov by searching for and locating Docket No. FAA-2010-0219; or in person at the Docket Management Facility between 9 a.m. and 5 p.m., Monday through Friday, except Federal holidays. The AD docket contains this proposed AD, the mandatory continuing airworthiness information, regulatory evaluation, any comments received, and other information. The address for the Docket Office (phone: 800-647-5527) is in the ADDRESSES section. Comments will be available in the AD docket shortly after receipt.

FOR FURTHER INFORMATION CONTACT: Contact Brian Kierstead, Aerospace Engineer, Engine Certification Office, FAA, Engine & Propeller Directorate, 1200 District Avenue, Burlington, MA 01803; phone: 781-238-7772, fax: 781-238-7199; email: brian.kierstead@faa.gov.

SUPPLEMENTARY INFORMATION:

Comments Invited

We invite you to send any written relevant data, views, or arguments about this proposed AD. Send your comments to an address listed under the ADDRESSES section. Include “Docket No. FAA-2010-0219; Directorate Identifier 2010-NE-14-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On May 19, 2010, we issued AD 2010-11-10, Amendment 39-16315 (75 FR 30270, June 1, 2010), (“AD 2010-11-10”), for all Turbomeca S.A., Astazou XIV B and XIV H turboshaft engines. AD 2010-11-10 requires inspection of certain third stage turbine wheels and removal of any damaged wheel. AD 2010-11-10 resulted from European Aviation Safety Agency (EASA) issuing an AD to identify and correct an unsafe condition on Turbomeca engines.

We are issuing this AD to prevent uncontained failures of the third stage turbine wheel, which could result in damage to the engine and damage to the helicopter.

Actions Since AD 2010-11-10 Was Issued

Since we issued AD 2010-11-10, Turbomeca reported a cracked third stage turbine wheel discovered during engine overhaul. As a result of the crack, Turbomeca S.A., expanded the population of affected wheels and inspection frequency. Turbomeca S.A., Mandatory Service Bulletin (MSB) No. 283 72 0804, Version D, dated July 24, 2015 addresses the increased population and inspection frequency. Also, since we issued AD 2010-11-10, (EASA) has issued AD 2015-0211, dated October 15, 2015, which supersedes EASA AD 2010-0004, dated January 5, 2010.

Related Service Information Under 1 CFR Part 51

Turbomeca S.A., has issued MSB No. 283 72 0804, Version D, dated July 24, 2015. That MSB describes procedures for expanding the frequency of repetitive inspections. This service information is reasonably available because the interested parties have access to it through their normal course of business or by the means identified in the ADDRESSES section of this NPRM.

Other Related Service Information

Turbomeca S.A., has issued Service Bulletin (SB) No. 283 72 0805, Version B, dated December 15, 2010. That SB describes terminating action for the inspections. This service information is reasonably available because the interested parties have access to it through their normal course of business or by the means identified in the ADDRESSES section of this NPRM.

FAA's Determination

We are proposing this AD because we evaluated all the relevant information and determined the unsafe condition described previously is likely to exist or develop in other products of the same type design.

Proposed AD Requirements

This proposed AD would require expanding the frequency of repetitive inspections. We are proposing this AD to prevent uncontained failure of the third stage turbine wheel, which could result in damage to the engine, and damage to the helicopter.

Costs of Compliance

We estimate that this proposed AD affects seven engines installed on helicopters of U.S. registry. We also estimate that it would take about 5 hours per engine to comply with this proposed AD. The average labor rate is $85 per hour. Based on these figures, we estimate the cost of this proposed AD on U.S. operators to be $2,975.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2010-11-10, Amendment 39-16315 (75 FR 30270, June 1, 2010), (“AD 2010-11-10”), and adding the following new AD:

Turbomeca S.A.: Docket No. FAA-2010-0219 Directorate Identifier 2010-NE-14-AD.

(a) Comments Due Date

We must receive comments by May 10, 2016.

(b) Affected ADs

This AD supersedes AD 2010-11-10.

(c) Applicability

This AD applies to Turbomeca S.A., Astazou XIV B and XIV H turboshaft engines with the following part number (P/N) and serial number (S/N) third stage turbine wheels that incorporate modification AB 173 (Turbomeca S.A., Service Bulletin (SB) No. 283 72 0091) or modification AB 208 (Turbomeca S.A., SB No. 283 72 0117). This AD does not apply to third stage turbine wheels that incorporate Turbomeca SB No. 283 72 805.

(1) Third stage turbine wheels, P/N 0 265 25 700 0, all S/Ns;

(2) Third stage turbine wheels, P/N 0 265 25 702 0, all S/Ns;

(3) Third stage turbine wheels, P/N 0 265 25 706 0, all S/Ns;

(4) Third stage turbine wheels, P/N 0 265 25 705 0, with an S/N listed in Appendix 2.1 of Turbomeca S.A., Mandatory Service Bulletin (MSB) No. 283 72 0804, Version D, dated July 24, 2015.

(d) Unsafe Condition

This AD was prompted by a report of a third stage turbine wheel crack detected during engine overhaul. We are issuing this AD to prevent uncontained failure of the third stage turbine wheel, which could result in damage to the engine and damage to the helicopter.

(e) Compliance

Comply with this AD within the compliance times specified, unless already done.

(1) Perform a dye penetrant inspection of the third stage turbine wheel. Use paragraph 2.4.2.2 of Turbomeca S.A., MSB No. 283 72 0804, Version D, dated July 24, 2015, to do the inspection, as follows:

(i) Inspect third stage turbine wheels with 300 engine cycles (EC) or more accumulated since last inspection, or since new, or since last overhaul, or since repair, within 100 EC after the effective date of this AD.

(ii) Inspect third stage turbine wheels with less than 300 EC accumulated since last inspection, or since new, or since last overhaul, or since repair, within 400 EC since last inspection, or since new, or since last overhaul, or since repair.

(2) Repeat the inspection required by this AD within 400 EC since last inspection.

(3) Remove from service any third stage turbine wheels that fail the inspection required by this AD.

(f) Optional Terminating Action

Application of Turbomeca S.A., SB No. 283 72 0805, Version B, dated December 15, 2010 is terminating action for the inspections required by paragraphs (e)(1) and (e)(2) of this AD.

(g) Alternative Methods of Compliance (AMOCs)

The Manager, Engine Certification Office, may approve AMOCs for this AD. Use the procedures found in 14 CFR 39.19 to make your request. You may email your request to: ANE-AD-AMOC@faa.gov.

(h) Related Information

(1) For more information about this AD, contact Brian Kierstead, Aerospace Engineer, Engine Certification Office, FAA, Engine & Propeller Directorate, 1200 District Avenue, Burlington, MA 01803; phone: 781-238-7772; fax: 781-238-7199; email: brian.kierstead@faa.gov.

(2) Refer to MCAI EASA AD 2015-0211, dated October 15, 2015, for related information. You may examine the MCAI in the AD docket on the Internet at http://www.regulations.gov by searching for and locating it in Docket No. FAA-2010-0219.

(3) Turbomeca S.A., MSB No. 283 72 0804, Version D, dated July 24, 2015 and Turbomeca S.A., SB No. 283 72 0805, Version B, dated December 15, 2010, can be obtained from Turbomeca, using the contact information in paragraph (h)(4) of this AD.

(4) For service information identified in this proposed AD, contact Turbomeca S.A., 40220 Tarnos, France; phone: (33) 05 59 74 40 00; fax: (33) 05 59 74 45 15.

(5) You may view this service information at the FAA, Engine & Propeller Directorate, 1200 District Avenue, Burlington, MA. For information on the availability of this material at the FAA, call 781-238-7125.

Issued in Burlington, Massachusetts, on February 26, 2016.
Colleen M. D'Alessandro,
Manager, Engine & Propeller Directorate, Aircraft Certification Service.

[FR Doc. 2016-05461 Filed 3-10-16; 8:45 am]

BILLING CODE 4910-13-P